DEPARTMENT OF COMMERCE

Foreign-Trade Zones Board

[B-91-2013]

Foreign-Trade Zone (FTZ) 8—Toledo, Ohio, Notification of Proposed Production Activity, Whirlpool Corporation, Subzone 8I, (Washing Machines), Clyde and Green Springs, Ohio

Whirlpool Corporation (Whirlpool) submitted a notification of proposed production activity to the FTZ Board for its facilities in Clyde and Green Springs, Ohio within Subzone 8I. The notification conforming to the requirements of the regulations of the FTZ Board (15 CFR 400.22) was received on October 17, 2013.

Whirlpool already has authority to produce standard and high capacity washing machines using certain imported components. The current request would add foreign-status components to the scope of authority. Pursuant to 15 CFR 400.14(b), additional FTZ authority would be limited to the specific foreign-status materials and components and specific finished products described in the submitted notification (as described below) and subsequently authorized by the FTZ Board.

Production under FTZ procedures could exempt Whirlpool from customs duty payments on the foreign-status components used in export production. On its domestic sales, Whirlpool would be able to choose the duty rates during customs entry procedures that apply to washing machine seal and pump assemblies; washing machines; high-capacity washing machines; subassemblies of washing machines; transmission and camshafts for washing machines agitators; gears and gearing for speed changers related to washing machines; clutch assemblies for washing machines; gears and gearing for agitator/washing machine transmissions; motor/actuator assemblies for washing machines; switch/button assemblies for washing machines; control panels for washing machines; control housing assemblies for washing machines; wire harness assemblies for washing machines; laundry pedestals; and, laundry pedestal subassemblies (duty rate ranges from duty-free to 6.7%) for the foreign status inputs noted below and in the existing scope of authority. Customs duties also could possibly be deferred or reduced on foreign status production equipment.

The additional components and materials sourced from abroad include: self-tapping screws, screws, bolts, washers, articles of steel, base metal mountings, housings for wax motors, appliance fans, water filters, various DC motors, various AC multi-phase motors, lamp sockets, halogen lamps, power cords, wire harnesses, carbon brush assemblies, pressure sensors and thermostats (duty rate ranges from duty-free to 8.6%).

Public comment is invited from interested parties. Submissions shall be addressed to the Board's Executive Secretary at the address below. The closing period for their receipt is December 9, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: October 23, 2013.
Elizabeth Whiteman,
Acting Executive Secretary.

[FR Doc. 2013-25357 Filed 10-25-13; 8:45 am]

BILLING CODE 3510-DS-P